DEPARTMENT OF ENERGY

Federal Energy Regulatory Commission

[Docket No. EC05-26-000, et al.]

Southaven Holdings, LLC, et al.; Electric Rate and Corporate Filings

December 20, 2004.

The following filings have been made with the Commission and are listed within.

1. Southaven Holdings, LLC

[Docket No. EC05-26-000]

Take notice that on December 10, 2004, Southaven Holdings, LLC (Holdings) tendered for filing, pursuant to section 203 of the Federal Power Act, 16 U.S.C. 824b (2000), and part 33 of the Commission's regulations, 18 CFR part 33 (2004), an application requesting Commission authorization for the disposition of jurisdictional facilities arising from the transfer of 100 percent of the upstream ownership interests in Southaven Power, LLC (a public utility) to Holdings, a newly-created special purpose entity owned by a group of financial institutions that have outstanding loans to Southaven Power, LLC. Southaven Holdings, LLC explains that the proposed transfer may occur either through a foreclosure or a consensual transfer made through a work-out process.

Comment Date: 5 p.m. Eastern Time on January 3, 2005.

2. NorthWestern Energy, NorthWestern Energy Marketing, LLC

[Docket Nos. ER03-329-006, ER02-41-006]

Take notice that on December 13, NorthWestern Energy, and NorthWestern Energy Marketing, LLC tendered for filing their triennial review in compliance with the Commission's orders in MP Energy, Inc., et al., Docket No. ER97-399-000 et al., 78 FERC ¶ 61, 005 (1997) and NorthWestern Energy Marketing, LLC, Docket No. ER02-41-000, Letter Order (January 22, 2002).

Comment Date: 5 p.m. Eastern Time on January 3, 2005.

3. New York Independent System Operator, Inc.

[Docket Nos. ER03-552-010, ER03-984-008]

Take notice that on November 30, 2004, the New York Independent System Operator, Inc. (NYISO) submitted a compliance filing pursuant to the Commission's Order issued June 2, 2004 in Docket No. ER03-552-006, et al., 107 FERC ¶ 51,243.

Comment Date: 5 pm Eastern Time on January 7, 2005.

4. Midwest Independent Transmission System Operator, Inc.

[Docket No. ER05-46-001]

Take notice that on December 14, 2004, Midwest Independent Transmission System Operator, Inc. (Midwest ISO) submitted a revised network integration transmission service agreement between Wabash Valley Power Association, Inc., Midwest Energy Cooperative and the Midwest ISO designated as Second Revised Service Agreement No. 549 under Midwest ISO's, FERC Electric Tariff, Second Revised Volume No. 1. Midwest ISO states that this filing was made to include the Certificates of Concurrence. Midwest ISO requests an effective date of October 1, 2004.

Midwest ISO states that a copy of this filing has been served on all parties on the official service list compiled by the Secretary in this proceeding.

Comment Date: 5 p.m. Eastern Time on January 4, 2005.

5. Public Service Company of New Hampshire

[Docket No. ER04-1238-001]

Take notice that on December 13, 2004, Northeast Utilities Service Company (NUSCO) on behalf of Public Service Company of New Hampshire (PSNH), filed its response to Federal Energy Regulatory Commission Questions dated October 29, 2004 pertaining to the executed Distribution Interconnection and Operating Agreement by and between PSNH and Fraser N.H., LLC (Fraser), Great Lakes Hydro America, LLC (GLHA) and White Mountain Energy, LLC (White Mountain and together with Fraser and GLHA, the Generators) that was filed on September 23, 2004.

NUSCO states that a copy of this filing has been sent to the Generators.

Comment Date: 5 p.m. Eastern Time on January 3, 2005.

6. Riverside Generating Company, L.L.C.

[Docket No. ER05-328-000]

Take notice that on December 14, 2004, Riverside Generating Company L.L.C. (Riverside) submitted for filing a rate schedule under which it specifies its revenue requirement for providing cost-based reactive support and voltage control from generation sources within the American Electric Power Service Corporation (AEPSC) control area and under Schedule 2 of the PJM Interconnection, L.L.C. (PJM) open access transmission tariff. Riverside requests an effective date of February 1, 2005.

Riverside states that it has provided copies of the filing to the designated corporate officials and or representatives of AEPSC, PJM and the Kentucky Public Service Commission.

Comment Date: 5 p.m. Eastern Time on January 4, 2005.

7. Duke Energy Corporation

[Docket No. ER05-329-000]

Take notice that on December 14, 2004, Duke Energy Corporation, on behalf of Duke Electric Transmission, (collectively, Duke) submitted an unexecuted facilities study agreement and an unexecuted large generator interconnection agreement between it and Forsyth Energy Projects, LLC (Forsyth), which are designated as service agreements No. 336 and 337 under Duke Electric Transmission, FERC Electric Tariff, Third Revised Volume No. 4.

Duke states that copies of the filings were served upon Forsyth and the South Carolina and North Carolina state public service commissions.

Comment Date: 5 p.m. Eastern Time on January 4, 2005.

8. City Power Marketing, LLC

[Docket No. ER05-330-000]

Take notice that on December 14, 2004, City Power Marketing, LLC (City Power) petitioned the Commission for acceptance of City Power's Rate Schedule FERC No. 1; the granting of certain blanket approvals, including the authority to sell electricity at market-based rates; and the waiver of certain Commission regulations. City Power states that it intends to engage in wholesale electric power and energy purchases and sales as a marketer. City Power further states that it is not in the business of generating or transmitting electric power. City Power requests an effective date of December 14, 2004.

Comment Date: 5 p.m. Eastern Time on January 4, 2005.

9. Promet Energy Partners LLC

[Docket No. ER05-331-000]

Take notice that on December 14, 2004, Promet Energy Partners LLC (Promet) petitioned the Commission for acceptance of Promet's Rate Schedule FERC No. 1; the granting of certain blanket approvals, including the authority to sell electricity at market-based rates; and the waiver of certain Commission regulations. Promet states that it intends to engage in wholesale electric power and energy purchases and sales as a marketer. Promet further states that it is not in the business of generating or transmitting electric power and has no affiliates.

Comment Date: 5 p.m. Eastern Time on January 4, 2005.

10. Robert G. Schoenberger

[Docket No. ID-4154-001]

Take notice that on December 13, 2004, Robert G. Schoenberger tendered for filing an applicaton for authority to hold interlocking positions between Southwest Power Pool and Unitil Corporation.

Comment Date: 5 p.m. Eastern Time on January 12, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-3860 Filed 12-28-04; 8:45 am]

BILLING CODE 6717-01-P